DEPARTMENT OF THE INTERIOR

Fish and Wildlife Service

Draft Karst Survey Guidance and Scientific Permit Requirements for Conducting Presence/Absence Surveys for Endangered Karst Invertebrates in Central Texas

AGENCY: Fish and Wildlife Service, Interior.

ACTION: Notice of availability.

SUMMARY: The U.S. Fish and Wildlife Service (Service) is making available for public comment its draft survey guidance for karst species and section 10(a)(1)(A) scientific permit requirements for conducting presence/absence surveys for endangered karst invertebrates in central Texas.

This document outlines methods to be used, information to be included in final reports, and minimum qualifications for personnel conducting presence/absence surveys for federally-listed endangered, terrestrial, karst invertebrate species (herein referred to as “karst invertebrates”) in Travis, Williamson, and Bexar counties, Texas, under a section 10(a)(1)(A) permit pursuant to the Endangered Species Act (Act) of 1973, as amended. This document also outlines the Service's recommendations for detecting karst features that may contain suitable habitat for endangered karst invertebrates, as a first step in determining presence/absence. The objective of this document is to identify survey methods that will produce sound scientific information upon which to base decisions and actions for the conservation of these endangered species. Using consistent survey methodology will also allow for greater comparison and analysis of results, and thereby increase our understanding of these species and their habitat requirements.

DATES: To ensure consideration, written comments must be received on or before June 1, 2004.

ADDRESSES: Written comments and information should be submitted to Supervisor, U.S. Fish and Wildlife Service, Austin Ecological Services Field Office, 10711 Burnet Road, Suite 200, Austin, Texas 78758; facsimile (512) 490-0974.

FOR FURTHER INFORMATION CONTACT: Supervisor, U.S. Fish and Wildlife Service, Austin Ecological Services Field Office, 10711 Burnet Road, Suite 200, Austin, Texas 78758 or (512) 490-0057.

SUPPLEMENTARY INFORMATION:

Background

Sixteen endangered karst invertebrates are known to occur in Travis, Williamson, and Bexar counties, Texas. These karst invertebrates are only capable of surviving in caves or karstic rock. Karst ecosystems receive nutrients from the surface community in the form of leaf litter and other organic debris that are washed in or fall into the cave, from tree and other vascular plant roots, and/or through the feces, eggs, or dead bodies of animals. In addition to providing nutrients to the karst ecosystem, the plant community also filters contaminants and buffers against changes in temperature and humidity. The major threats to karst invertebrates include the loss of habitat due to urbanization, contamination, predation by and competition with non-native fire ants, and vandalism.

On February 27, 2003 we provided a notice (68 FR 9094-9095) of our intention to do the following:

(1) With respect to survey guidance for use in determining the presence of karst features that may contain potential habitat for endangered karst invertebrates in central Texas, we committed to work with the Texas Commission on Environmental Quality (TCEQ) and other partners to update, as needed, the existing TCEQ guidance on karst feature surveys.

(2) With respect to survey guidance for endangered karst invertebrates, we committed to request a panel of experts to review all new information regarding how to survey for karst invertebrates. We also committed to using the panel's recommendations to modify the section 10(a)(1)(A) permitting requirements and to develop karst invertebrate survey guidance.

This guidance was initially intended to be made available for public review and comment through a Notice of Availability to be published in the Federal Register by December 30, 2003. On January 16, 2004, we provided notice (69 FR 2617) of our intention to publish this draft guidance for public review by March 31, 2004.

We submitted both the draft karst feature and karst invertebrate survey guidance documents (May 23, 2002, versions) to a panel of 48 individuals with expertise in karst geology and/or biology and/or experience conducting karst feature and karst invertebrate surveys for review and comment. In addition to providing written comments, members of the panel met with us on September 8, 2003, and provided their individual feedback on both survey guidance documents and the suitability of TCEQ's guidance for surveying for karst features that may contain suitable habitat for endangered karst invertebrates.

Based on individual panel member's comments and recommendations, the Service has merged the two draft karst survey guidance documents into a single document and intends to use this document to modify the section 10(a)(1)(A) permitting requirements for conducting presence/absence surveys for endangered karst invertebrates in central Texas. This revised document, USFWS Section 10(a)(1)(A) Scientific Permit Requirements for Conducting Presence/Absence Surveys for Endangered Karst Invertebrates in Central Texas (February 18, 2004), outlines (1) Methods to be used to conduct surveys for endangered karst invertebrates, (2) information to be included in final reports, and (3) the minimum qualifications for personnel conducting presence/absence surveys for endangered karst invertebrates under a section 10(a)(1)(A) permit. Since one of the first steps in determining presence/absence of endangered karst invertebrates is to locate karst features that may have suitable habitat, this document also outlines the Service's recommendations for conducting surveys for karst features that may contain suitable habitat for endangered karst invertebrates. TCEQ's Instructions to Geologists for Geologic Assessments (GA) as revised May 1, 2002, are recommended to conduct initial karst feature surveys.

This revised document was submitted to panel members for additional review and comment and panel member's comments and recommendations were incorporated into the current version of the document, which is available for public comment.

Authority: We provide this notice pursuant to section 10(c) of the Endangered Species Act and pursuant to implementing regulations for the National Environmental Policy Act (40 CFR 1506.6).

Bryan Arroyo,
Acting Regional Director, Southwest Region, Albuquerque, New Mexico.

[FR Doc. 04-7348 Filed 3-31-04; 8:45 am]

BILLING CODE 4310-55-U